DEPARTMENT OF LABOR

Employment and Training Administration

[TA-W-62,276]

F.L. Smithe Machine Company Duncansville, PA; Notice of Affirmative Determination Regarding Application for Reconsideration

By applications dated January 16, 2008 and January 19, 2008, the International Association of Machinists and Aerospace Workers and a company official, respectively, requested administrative reconsideration of the Department of Labor's Notice of Negative Determination Regarding Eligibility to Apply for Worker Adjustment Assistance, applicable to workers and former workers of the subject firm. The denial notice was signed on December 28, 2007 and published in the Federal Register on January 16, 2008 (73 FR 2944).

The initial investigation resulted in a negative determination based on the finding that imports of envelope making machines, printing presses and related parts did not contribute importantly to worker separations at the subject firms and no shift of production to a foreign source occurred.

In the request for reconsideration, both petitioners indicated that not enough information was supplied pertaining to printing press machines manufactured at the subject plant.

The Department has carefully reviewed the requests for reconsideration and the existing record and determined that the Department will conduct further investigation to determine if the workers meet the eligibility requirements of the Trade Act of 1974.

Conclusion

After careful review of the applications, I conclude that the claim is of sufficient weight to justify reconsideration of the Department of Labor's prior decision. The application is, therefore, granted.

Signed in Washington, DC, this 21st day of February, 2008.
Elliott S. Kushner,
Certifying Officer, Division of Trade Adjustment Assistance.

[FR Doc. E8-3795 Filed 2-28-08; 8:45 am]

BILLING CODE 4510-FN-P